DEPARTMENT OF ENERGY

Federal Energy Regulatory Commission

[Project No. 2197-038; North Carolina]

Yadkin, Inc.; Notice of Availability of Environmental Assessment

May 25, 2000.

An environmental assessment (EA) is available for public review. The EA analyzes the environmental effects of a request to amend the license to authorize upgrades of turbines and generators at three of the four developments of the Yadkin Hydroelectric Project located on the Yadkin-Pee Dee River in Montgomery, Stanly, Davidson, Rowan, and Davie Counties, North Carolina. The Yadkin Hydroelectric Project contains the following reservoirs: High Rock, Tuckertown, Narrows (Badin) and Falls.

The EA was written by staff in the Office of Energy Projects, Federal Energy Regulatory Commission. The proposed upgrade would not constitute a major federal action significantly affecting the quality of the human environment. Copies of the EA assistance. Copies are also available for inspection and reproduction at the Commission's Public Reference Room located at 888 First Street, NE., Room 2A, Washington, DC 20426, or by calling (202) 208-1371.

Anyone may file comments on the EA. The public, federal and state resource agencies are encouraged to provide comments. All written comments must be filed within 30 days of the issuance date of this notice shown above. Send an original and eight copies of all comments marked with the project number P-2197-038 to: The Secretary, Federal Energy Regulatory Commission, 888 First Street, NE, Washington, DC 20426. If you have any questions regarding this notice, please contact R. Feller at telephone: (202) 219-2796 or e-mail: rainer.feller@ferc.fed.us

Linwood A. Watson, Jr.,
Acting Secretary.

[FR Doc. 00-13620 Filed 5-31-00; 8:45 am]

BILLING CODE 6717-01-M